DEPARTMENT OF LABOR

Employment and Training Administration

[TA-W-53,247]

MT Picture Display Corporation of America (New York), a Subsidiary of MT Picture Display Corporation Japan, Horseheads, NY; Notice of Termination of Investigation

Pursuant to section 221 of the Trade Act of 1974, as amended, an investigation was initiated on October 15, 2003 in response to a petition filed by a company official on behalf of workers at MT Picture Display Corporation of America (New York), a subsidiary of MT Picture Display Corporation Japan, Horseheads, New York.

The petitioner has requested that the petition be withdrawn. Consequently, the investigation has been terminated.

Signed at Washington, DC, this 12th day of November, 2003.
Linda G. Poole,
Certifying Officer, Division of Trade Adjustment Assistance.

[FR Doc. 03-29952 Filed 12-1-03; 8:45 am]

BILLING CODE 4510-30-P